DEPARTMENT OF HOMELAND SECURITY

Coast Guard

33 CFR Part 117

[Docket No. USCG-2012-0297]

Drawbridge Operation Regulation; Mile 359.4, Missouri River, Kansas City, MO

AGENCY: Coast Guard, DHS.

ACTION: Notice of temporary deviation from regulations.

SUMMARY: The Coast Guard has issued a temporary deviation from the operating schedule that governs the Harry S. Truman Railroad Drawbridge across the Missouri River, mile 359.4, at Kansas City, Missouri. The deviation is necessary to allow the replacement of eight wire rope lifting cables that operate the lift span. This deviation allows the bridge to remain in the closed position while the lift cables are replaced.

DATES: This deviation is effective from 10 p.m. on or about May 15, 2012 through 10 a.m. on May 18, 2012 and again from 10 p.m. on or about May 22, 2012 through 10 a.m. on May 25, 2012.

ADDRESSES: Documents mentioned in this preamble as being available in the docket are part of docket USCG-2012-0297 and are available online by going to http://www.regulations.gov, inserting USCG-2012-0297 in the “Keyword” box and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Eric A. Washburn, Bridge Administrator, Western Rivers, Coast Guard, telephone 314-269-2378, email Eric.Washburn@uscg.mil. If you have questions on viewing the docket, call Renee V. Wright, Program Manager, Docket Operations, telephone 202-366-9826.

SUPPLEMENTARY INFORMATION: The Canadian Pacific Railway requested a temporary deviation for the Harry S. Truman Railroad Drawbridge, across the Missouri River, mile 359.4, at Kansas City, Missouri to remain in the closed-to-navigation position for two 60-hour individual closures while the eight wire rope lifting cables that operate the lift span are replaced. The closure period will start at 10 p.m. on or about May 15, 2012 through 10 a.m. on May 18, 2012 and again from 10 p.m. on or about May 22, 2012 through 10 a.m. on May 25, 2012.

Once the wire rope lifting cables are removed, the lift span will not be able to open, even for emergencies, until the replacement wire rope lifting cables are installed.

The Harry S. Truman Railroad Drawbridge currently operates in accordance with 33 CFR 117.687, which states the draws of the bridges across the Missouri River shall open on signal; except during the winter season between the date of closure and date of opening of the commercial navigation season as published by the Army Corps of Engineers, the draws need not open unless at least 24 hours advance notice is given.

There are no alternate routes for vessels transiting this section of the Missouri River. The Harry S. Truman Railroad Drawbridge, in the closed-to-navigation position, provides a vertical clearance of 51.3 feet above zero on W. B. gage at Kansas City, Missouri. Navigation on the waterway consists primarily of commercial tows and recreational watercraft. This temporary deviation has been coordinated with the waterway users.

In accordance with 33 CFR 117.35(e), the drawbridge must return to its regular operating schedule immediately at the end of the designated time period. This deviation from the operating regulations is authorized under 33 CFR 117.35.

Dated: April 9, 2012.
Eric A. Washburn,
Bridge Administrator, Western Rivers.

[FR Doc. 2012-9732 Filed 4-20-12; 8:45 am]

BILLING CODE 9110-04-P